DEPARTMENT OF TRANSPORTATION

Federal Highway Administration

Notice of Final Federal Agency Actions on the I-94 North-South Corridor Study in Wisconsin and Illinois

AGENCY: Federal Highway Administration (FHWA), DOT.

ACTION: Notice of Limitation on Claims for Judicial Review of Actions by FHWA.

SUMMARY: This notice announces actions taken by the FHWA that are final within the meaning of 23 U.S.C. 139(l)(1). The actions relate to the I-94 North-South Corridor Study in Lake County, Illinois, and Kenosha, Racine and Milwaukee Counties, Wisconsin. Those actions grant licenses, permits, and approvals for the project.

DATES: By this notice, the FHWA is advising the public of final agency actions subject to 23 U.S.C. 139(l)(1). A claim seeking judicial review of the Federal agency actions on the highway project will be barred unless the claim is filed on or before December 3, 2008. If the Federal law that authorizes judicial review of a claim provides a time period of less than 180 days for filing such claim, then that shorter time period still applies.

FOR FURTHER INFORMATION CONTACT: Mr. David Scott, Federal Highway Administration, 525 Junction Road, Suite 8000, Madison, Wisconsin 53717; telephone: (608) 829-7522, e-mail: David.Scott@fhwa.dot.gov. The FHWA Wisconsin Division's normal office hours are 7 a.m. to 4 p.m. (central time). For the Wisconsin Department of Transportation: Mr. Roberto Gutierrez, Wisconsin Department of Transportation, 141 NW. Barstow Street, Waukesha, Wisconsin 53188; telephone: (414) 548-5622; e-mail: roberto.gutierrez@dot.state.wi.us.

SUPPLEMENTARY INFORMATION: Notice is hereby given that FHWA has taken final agency actions subject to 23 U.S.C. 139(l)(1) by issuing licenses, permits, and approvals for the following highway project in the States of Wisconsin and Illinois: A range of alternatives to meet the transportation needs were evaluated, and FHWA selected the Safety and Design Improvements with Added Capacity Alternative. The actions taken by FHWA, and the laws under which such actions were taken, are described in the Final Environmental Impact Statement (FEIS) for the project, approved on March 25, 2008 (FHWA-WI-EIS-07-01-F), in the FHWA Record of Decision (ROD) issued on May 30, 2008, and in other documents in the FHWA or WisDOT project records. The FEIS, ROD, and other project records are available by contacting FHWA or WisDOT at the addresses provided above. The FHWA FEIS and ROD can also be viewed at the project Web site at http://www.sefreeways.org or at WisDOT's Waukesha office. This notice applies to all Federal agency decisions as of the issuance date of this notice and all laws under which such actions were taken, including by not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [23 U.S.C. 138 and 49 U.S.C. 303].

4. Wildlife: Endangered Species Act [16 U.S.C. 1531-1544 and section 1536]; Fish and Wildlife Coordination Act [16 U.S.C. 661-667(d)].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act [25 U.S.C. 3001-3013].

6. Social and Economic: Civil Rights Act of 1964 [42 U.S.C. 2000d)-2000(d)(1)]; Farmland Protection Policy Act [7 U.S.C. 4201-4209].

7. Executive Orders: E.O. 12898, Federal Actions to Address Environmental Justice in Minority Populations and Low Income Population; E.O. 13007, Indian Sacred Sites.

(Catalog of Federal Domestic Assistance Program Number 20.205, Highway Planning and Construction. The regulations implementing Executive Order 12372 regarding intergovernmental consultation on Federal programs and activities apply to this program.)

Authority: 23 U.S.C. 139(l)(1).

Issued on: June 2, 2008.
Allen Radliff,
Division Administrator, Wisconsin Division.

[FR Doc. E8-12674 Filed 6-5-08; 8:45 am]

BILLING CODE 4910-RY-P